DEPARTMENT OF COMMERCE

Census Bureau

Proposed Information Collection; Comment Request; Manufacturers' Shipments, Inventories, and Orders (M3) Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before December 19, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Mary Catherine Potter, U.S. Census Bureau, Economic Indicators Division, 4600 Silver Hill Rd., Room 7K157, Washington, DC 20233-6913, (301) 763-4207 or via the Internet at mary.catherine.potter@census.gov.

SUPPLEMENTARY INFORMATION:

I. Abstract

The U.S. Census Bureau plans to request an extension of the current Office of Management and Budget (OMB) clearance of the Manufacturers' Shipments, Inventories and Orders (M3) survey. The M3 survey requests data monthly from domestic manufacturers on form M-3 (SD). Data requested are shipments, new orders, unfilled orders, total inventory, materials and supplies, work-in-process, and finished goods.

The M3 survey is designed to measure current industrial activity and to provide an indication of future production commitments. The value of shipments measures the value of goods delivered during the month by domestic manufacturers. Estimates of new orders serve as an indicator of future production commitments and represent the current sales value of new orders received during the month, net of cancellations. Substantial accumulation or depletion of unfilled orders measures excess or deficient demand for manufactured products. The level of inventories, especially in relation to shipments, is frequently used to monitor the business cycle, by calculating the inventories to sales ratio. In general, a low ratio indicates strong shipments. A high ratio indicates weaker shipments or accumulation of inventories in stock.

We do not plan any changes to the M-3 (SD) form.

II. Method of Collection

Respondents may submit data on form M-3 (SD) via mail, or via the Internet. We send emails and make telephone calls to respondents to remind them to report on time.

III. Data

OMB Control Number: 0607-0008.

Form Number(s): M-3 (SD).

Type of Review: Regular submission.

Affected Public: Businesses, large and small, or other for profit.

Estimated Number of Respondents: 5,000.

Estimated Time per Response: 20 minutes.

Estimated Total Annual Burden Hours: 20,000.

Estimated Total Annual Cost to Public: $0.

Respondent's Obligation: Voluntary.

Legal Authority: Title 13 U.S.C. Sections 131, 182, and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-22814 Filed 10-19-17; 8:45 am]

BILLING CODE 3510-07-P